DEPARTMENT OF HOUSING AND URBAN DEVELOPMENT

[Docket No. FR-5076-D-18]

Order of Succession for the Office of the Chief Financial Officer

AGENCY: Office of the Chief Financial Officer, HUD.

ACTION: Notice of Order of Succession.

SUMMARY: In this notice, the Chief Financial Officer of the Department of Housing and Urban Development designates the Order of Succession for the Office of the Chief Financial Officer. This Order of Succession supersedes the Order of Succession for the Office of the Chief Financial Officer published on April 11, 2002.

DATES: Effective Date: January 12, 2007.

FOR FURTHER INFORMATION CONTACT: Jeannetta M. Evans, Acting Administrative Officer, Office of the Chief Financial Officer, Department of Housing and Urban Development, 451 Seventh Street, SW., Room 3126, Washington, DC 20410; telephone (202) 708-0313 (this is not a toll-free number). A telecommunications device for hearing- and speech-impaired persons (TTY) is available by calling the Federal Information Relay Service at (800) 877-8339.

SUPPLEMENTARY INFORMATION: The Chief Financial Officer for the Department of Housing and Urban Development is issuing this Order of Succession of officials authorized to perform the functions and duties of the Office of the Chief Financial Officer when, by reason of absence, disability, or vacancy in office, the Chief Financial Officer is not available to exercise the powers or perform the duties of the office. This Order of Succession is subject to the provisions of the Federal Vacancies Reform Act of 1998 (5 U.S.C. 3345-3349d).

Accordingly, the Chief Financial Officer designates the following Order of Succession:

Section A. Order of Succession

Subject to the provisions of the Federal Vacancies Reform Act of 1998, during any period when, by reason of absence, disability, or vacancy in office, the Chief Financial Officer is not available to exercise the powers or perform the duties of the Chief Financial Officer, the following officials within the Office of the Chief Financial Officer are hereby designated to exercise the powers and perform the duties of the Office:

(1) Deputy Chief Financial Officer;

(2) Assistant Chief Financial Officer for Budget;

(3) Assistant Chief Financial Officer for Accounting;

(4) Assistant Chief Financial Officer for Financial Management;

(5) Assistant Chief Financial Officer for Systems.

These officials shall perform the functions and duties of the Office of the Chief Financial Officer in the order specified herein, and no official shall serve unless all the other officials, whose position titles precede his/hers in this Order, are unable to act by reason of absence, disability, or vacancy in office.

Section B. Authority Superseded

This Order of Succession supersedes the Order of Succession for the Office of the Chief Financial Officer published on April 11, 2002 (67 FR 17710).

Authority: Sec. 7(d), Department of Housing and Urban Development Act, 42 U.S.C. 3535(d).

Dated: January 12, 2007.
John W. Cox,
Chief Financial Officer.

[FR Doc. E7-1753 Filed 2-1-07; 8:45 am]

BILLING CODE 4210-67-P